DEPARTMENT OF COMMERCE

National Oceanic and Atmospheric Administration

[RTID 0648-XA911]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Non-commercial Fisheries Advisory Committee (NCFAC), American Samoa Archipelago Fishery Ecosystem Plan (FEP) Advisory Panel (AP), Mariana Archipelago FEP-Guam AP, Fishing Industry Advisory Committee (FIAC), Hawaii Archipelago FEP AP, and Mariana Archipelago FEP-Commonwealth of the Northern Mariana Islands (CNMI) AP to discuss and make recommendations on fishery management issues in the Western Pacific Region.

DATES: The meetings will be held March 10, 2021 through March 13, 2021. For specific times and agendas, see SUPPLEMENTARY INFORMATION.

ADDRESSES: Each of the meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The NCFAC will meet on Wednesday, March 10, 2021, from 1:30 p.m. to 4:30 p.m.; The American Samoa Archipelago FEP AP will meet on Wednesday, March 10, 2021, from 5 p.m. to 7 p.m.; the Mariana Archipelago FEP-Guam AP will meet on Thursday, March 11, 2021, from 6:30 p.m. to 8:30 p.m.; the FIAC will meet on Thursday, March 11, 2021, from 2 p.m. to 5 p.m.; the Hawaii Archipelago FEP AP will meet on Friday, March 12, 2021, from 9 a.m. to 12 noon; and the Mariana Archipelago FEP-CNMI AP will meet on Saturday, March 13, 2021, from 9 a.m. to 12 noon All times listed are local island times except for the NCFAC and FIAC are Hawaii Standard Time.

Public comment periods will be provided in the agendas. The order in which agenda items are addressed may change. The meetings will run as late as necessary to complete scheduled business.

Schedule and Agenda for the NCFAC Meeting

Wednesday, March 10, 2021, 1:30 p.m.-4:30 p.m. (Hawaii Standard Time)

1. Welcome and Introductions

2. NCFAC Task and Scope of Activities

3. Council Action Items

A. Main Hawaiian Islands Deep 7 Bottomfish ACL

B. Guam Bottomfish Rebuilding Plan

C. Protected Species Updates

4. Discussion on Non-Commercial Data Collection Efforts

A. Fishermen Efforts

B. National Academy of Science Study on Recreational Fisheries

C. Council Initiatives

5. Discussion on Non-Commercial Data Reporting

A. Identifying Available Data and Needs

B. Annual Stock Assessment and Fishery Evaluation Report Non-Commercial Module

6. Potential Impacts from Executive Orders and Legislation

7. Public Comment

8. Discussion and Recommendations

9. Other Business

Schedule and Agenda for the American Samoa FEP AP Meeting

Wednesday, March 10, 2021, 5 p.m.-7 p.m. (American Samoa Standard Time)

1. Welcome and Introductions

2. Review of the Last AP Meeting and Recommendations

3. Council Issues

A. Options for Managing the American Samoa Bottomfish Stocks

B. Catch-It, Log-It Implementation

C. Status of the American Samoa Large Vessel Prohibited Area

D. Status of Fishery Biological Opinions

4. American Samoa Reports

5. Report on American Samoa Archipelago FEP AP Plan Activities

6. Fishery Issues and Activities

7. Public Comment

8. Discussion and Recommendations

9. Other Business

Schedule and Agenda for the Mariana Archipelago FEP-Guam AP Meeting

Thursday, March 10, 2021, 6:30 p.m.-8:30 p.m. (Marianas Standard Time)

1. Welcome and Introductions

2. Review of the Last AP Meeting and Recommendations

3. Council Issues

A. Guam Bottomfish Rebuilding Plan

B. Catch-It, Log-It Implementation

C. Status of Fishery Biological Opinions

4. Guam Reports

5. Report on Mariana Archipelago FEP Advisory Panel Plan Activities

6. Fishery Issues and Activities

7. Public Comment

8. Discussion and Recommendations

9. Other Business

Schedule and Agenda for the FIAC Meeting

Thursday, March 11, 2021, 2 p.m.-5 p.m. (Hawaii Standard Time)

1. Welcome and Introductions

2. Status Report on October 2020 FIAC Recommendations

3. Council Actions for 185th Meeting

A. Wire Leader Regulatory Amendment in Hawaii Longline Fisheries

B. U.S. Catch Limits for North Pacific Striped Marlin

C. American Samoa Options for Bottomfish Stock Management

D. Guam Options for Bottomfish Stock Rebuilding Plan

E. Hawaii Update to the Deep 7 Bottomfish Annual Catch Limits

4. Status of the Green Sea Turtle Population in the Marianas

5. Legislative and Administrative Issues

6. 2021 Hawaii Small Boat Survey

7. Brief Overview of Pelagic and International Management

8. Workshop on Bigeye Tuna Management in Western and Central Pacific Ocean Longline Fisheries

9. Other Issues

10. Public Comment

11. Discussion and Recommendations

Schedule and Agenda for the Hawaii Archipelago FEP AP Meeting

Friday, March 12, 2021, 9 a.m.-12 Noon (Hawaii Standard Time)

1. Welcome and Introductions

2. Review of the Last AP Meeting and Recommendations

3. Council Issues

A. Main Hawaiian Islands Deep 7 Bottomfish ACL Specification

B. Regulatory Changes for the Prohibition of Wire Leaders in Hawaii Longline Fisheries

C. U.S. Catch Limits for North Pacific Striped Marlin

D. Seabird Mitigation Measures in the Hawaii Longline Fisheries

E. Status of Fishery Biological Opinions

4. Report on the Hawaii Reef Fish Life History Research

5. Hawaii Reports

6. Report on Hawaii Archipelago FEP AP Plan Activities

7. Fishery Issues and Activities

8. Public Comment

9. Discussion and Recommendations

10. Other Business

Schedule and Agenda for the Mariana Archipelago FEP-CNMI AP Meeting

Saturday, March 13, 2021, 9 a.m.-12 Noon (Marianas Standard Time)

1. Welcome and Introductions

2. Review of the Last AP Meeting and Recommendations

3. Council Issues

A. Guam Bottomfish Update

B. Catch-It, Log-It Implementation

C. Status of Fishery Biological Opinions

4. CNMI Reports

5. Report on Mariana Archipelago FEP AP Plan Activities

6. Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 25, 2021.
Tracey L. Thompson,
Acting Deputy Director, Office of Sustainable Fisheries, National Marine Fisheries Service.

[FR Doc. 2021-04269 Filed 3-1-21; 8:45 am]

BILLING CODE 3510-22-P